DEPARTMENT OF LABOR

Employment and Training Administration

[TA-W-82,707]

Delphi Corporation, Electronics and Safety Division, Including On-Site Leased Workers From Securitas, Bartech, Flint Janitorial Services, and General Motors, Flint, Michigan; Amended Certification Regarding Eligibility To Apply for Worker Adjustment Assistance

In accordance with Section 223 of the Trade Act of 1974, as amended (“Act”), 19 U.S.C. 2273, the Department of Labor issued a Certification of Eligibility to Apply for Worker Adjustment Assistance on May 20, 2013, applicable to workers of Delphi Corporation, Electronics and Safety Division, including on-site leased workers from Securitas, Bartech and Flint Janitorial Services, Flint, Michigan. The Department's notice of determination was published in the Federal Register on June 10, 2013 (Volume 78 FR Pages 34672-34674).

At the request of the State Workforce Office, the Department reviewed the certification for workers of the subject firm. The workers were engaged in production of instrument clusters and fuel modules. The state reports that workers leased from General Motors were employed on-site at the Flint, Michigan location of Delphi Corporation, Electronics and Safety Division. The Department has determined that these workers were sufficiently under the control of the subject firm to be considered leased workers.

Based on these findings, the Department is amending this certification to include workers leased from General Motors working on-site at the Flint, Michigan location of Delphi Corporation, Electronics and Safety Division.

The amended notice applicable to TA-W-82,707 is hereby issued as follows:

All workers of Delphi Corporation, Electronics and Safety Division, including on-site leased workers from Securitas, Bartech, Flint Janitorial Services, and General Motors, Flint, Michigan, who became totally or partially separated from employment on or after May 6, 2012 through May 20, 2015, and all workers in the group threatened with total or partial separation from employment on the date of certification through May 20, 2015, are eligible to apply for adjustment assistance under Chapter 2 of Title II of the Trade Act of 1974, as amended.

Signed in Washington, DC this 5th day of July, 2013.
Michael W. Jaffe,
Certifying Officer, Office of Trade Adjustment Assistance.

[FR Doc. 2013-19179 Filed 8-7-13; 8:45 am]

BILLING CODE 4510-FN-P